DEPARTMENT OF AGRICULTURE

Animal and Plant Health Inspection Service

[Docket No. 01-007-1]

Notice of Request for Reinstatement of an Expired Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an expired information collection in support of regulations that prevent plant diseases and pests from spreading from infested areas of the United States to noninfested areas.

DATES: We invite you to comment on this docket. We will consider all comments that we receive by May 21, 2001.

ADDRESSES: Please send four copies (an original and three copies) of your comment to: Docket No. 01-007-1, Regulatory Analysis and Development, PPD, APHIS, Suite 3C03, 4700 River Road, Unit 118, Riverdale, MD 20737-1238. Please state that your comment refers to Docket No. 01-007-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on domestic quarantine regulations, contact Mr. Robert G. Spaide, Assistant Director, Invasive Species and Pest Management, PPQ, APHIS, 4700 River Road Unit 134, Riverdale, MD 20737-1236; (301) 734-8247. For copies of more detailed information on the information collection, contact Mrs. Celeste Sickles, APHIS' Information Collection Coordinator, at (301) 734-7477.

SUPPLEMENTARY INFORMATION: Title: Domestic Quarantines.

OMB Number: 0579-0088.

Expiration Date of Approval: August 31, 2000.

Type of Request: Reinstatement of an expired information collection.

Abstract: The United States Department of Agriculture (USDA) is responsible for, among other things, the control and eradication of plant pests. The Plant Protection Act authorizes the Department to carry out this mission.

The Plant Protection and Quarantine (PPQ) program of USDA's Animal and Plant Health Inspection Service (APHIS) is responsible for implementing the provisions of the Act and does so through the enforcement of its domestic quarantine regulations in 7 CFR part 301 and its Hawaiian and territorial quarantine regulations in 7 CFR part 318.

Those regulations prohibit or restrict the movement of certain articles from infested areas to noninfested areas. For example, if an area of the United States has been placed under quarantine due to witchweed, then certain plants, plant products, or soil that may present a risk of spreading witchweed (regulated articles) can be moved from the quarantined area only under certain conditions (i.e., after having been treated and inspected). In this way, we prevent witchweed from spreading from quarantined areas to noninfested areas of the United States.

Implementing our various domestic quarantines often requires us to collect information from a variety of individuals who are involved in growing, packing, handling, transporting, and exporting plants and plant products. The information we collect serves as the supporting documentation required for the issuance of PPQ forms and documents that authorize the movement of regulated articles and is vital to helping us ensure that injurious plant diseases and insect pests do not spread within the United States.

Collecting this information requires us to use a number of forms and documents, including certificates, limited permits, transit permits, and outdoor household article documents.

We are asking the Office of Management and Budget (OMB) to approve these forms for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 3 minutes per response.

Respondents: State plant health protection authorities, State cooperators, and individuals involved in growing, packing, handling, transporting, and exporting plants and plant products.

Estimated annual number of respondents: 180,000.

Estimated annual number of responses per respondent: 10.

Estimated annual number of responses: 1,800,000.

Estimated total annual burden on respondents: 90,000 hours.

All responses to this notice will be summarized and included in the request for OMB approval. All comments will also become a matter of public record.

Done in Washington, DC, this 16th day of March 2001.
Bobby R. Acord,
Acting Administrator, Animal and Plant Health Inspection Service.

[FR Doc. 01-7111 Filed 3-21-01; 8:45 am]

BILLING CODE 3410-34-P